FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

All Express Cargo, LLC. (NVO & OFF), 7410 SW. 48th Street, Miami, FL 33155, Officers: Tibisay Tovar, Member (QI), Sergio J. Sicilia, Member, Application Type: New NVO & OFF License.

Brookfield Relocation Inc. (OFF), Two Corporate Drive, Suite 440, Shelton, CT 06484, Officers: Susan Dumire, Assistant Vice President (QI), Richard Schwartz, President, Application Type: QI Change.

Covenant Global Logistics Inc (NVO & OFF), 440 Benmar Drive, Suite 1100, Houston, TX 77060, Officers: Mabel G. Gold, Vice President (QI), Ronald E. Gold, President, Application Type: Add Trade Name CGL Shipping.

EXL Logistics, Inc. (NVO), 1444 NW 82nd Avenue, Miami, FL 33126, Officers: Marcelo Kroeff, Vice President (QI), Andrea Landan, Secretary, Application Type: New NVO License.

Global Parcel System LLC (NVO & OFF), 8240 NW 30th Terrace, Miami, FL 33122, Officer: Alejandro Alvarez, Managing Member (QI), Application Type: New NVO & OFF License.

Graylion Logistics, LLC (NVO & OFF), 8515 Baymeadows Way, Suite 303, Jacksonville, FL 32256, Officers: Glenn R. Patch, President (QI), Michael R. Huntley, Vice President, Application Type: QI Change.

Innocent Peter Ajaroh (NVO & OFF), 10661 Rockley Road, Houston, TX 77099, Officer: Innocent L. Emedo, Managing Member (QI), Application Type: Business Structure Change to Innglo Global Shipping LLC.

Menn Logistics, Inc. (NVO & OFF), 8505 NW 123rd Place, Kirkland, WA 98034, Officer: Anna Nickolaychuk, President (QI), Application Type: New NVO & OFF License.

Sea Marine Transport, LLC dba Sea Marine Freight Forwarding (NVO & OFF), 4900 Woodway Drive, Suite 110, Houston, TX 77056, Officer: Moises Sarabia Leon, Manager (QI), Application Type: New NVO & OFF.

Tripoli Shipping Services Inc. (OFF), 725 FM 1959 No. 1409, Houston, TX 77034, Officers: Misel Repak, COO (QI), Salem Abudher, CEO, Application Type: New OFF.

By the Commission.
Dated: March 15, 2013.
Karen V. Gregory,
Secretary.

[FR Doc. 2013-06395 Filed 3-19-13; 8:45 am]

BILLING CODE 6730-01-P